DEPARTMENT OF HEALTH AND HUMAN SERVICES

National Institutes of Health

Government-Owned Inventions; Availability for Licensing

AGENCY: National Institutes of Health, Public Health Service, HHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

DNA Influenza Vaccine

Description of Technology: The FDA is pleased to announce a single vector DNA vaccine against influenza as available for licensing. The single vector expresses both hemagglutinin (HA) and matrix (M) proteins, generating both humoral and cellular immune responses. The vaccine candidate completely protected mice against homologous virus challenge and significantly improved survival against heterologous virus challenge. A robust and reliable vaccine supply is widely recognized as critical for seasonal or pandemic influenza preparedness. The advantages offered by this vaccine make it an excellent candidate for further development.

Advantages: (1) DNA vaccines are easy to produce and store; (2) Vaccine candidate improved survival against heterologous virus challenge; (3) No risk of reversion to pathogenic strain as with live-attenuated virus vaccines; (4) Can be administered to immuno-compromised individuals, increasing potential market size; (5) HA and M proteins encoded by single vector, ensuring uniform delivery of immunogen; (6) More efficient to boost synergistic effects on both HA and M specific immune responses than a mixture of individual plasmids; (7) M protein not subject to antigenic drift, which allows advanced manufacturing and overcomes the need for strain monitoring; (8) DNA vaccines elicit cellular immune response, essential for efficient virus clearance.

Inventors: Zhiping Ye et al. (FDA).

Patent Status: U.S. Provisional Application No. 60/786,747 filed 27 Mar 2006 (HHS Reference No. E-300-2005/0-US-01).

Licensing Status: Available for exclusive or non-exclusive licensing.

Licensing Contact: Susan Ano, Ph.D.; 301/435-5515; anos@mail.nih.gov.

Collaborative Research Opportunity: The Food and Drug Administration is seeking statements of capability or interest from parties interested in collaborative research to further develop, evaluate, or commercialize this technology. Please contact the inventor, Zhiping Ye at 301/435-5197 or Beatrice Droke at 301/827-7008 for more information.

Method for Improved Phase Contrast MRI Resolution

Description of Technology: This invention is a method to significantly improve the temporal or spatial resolution in a phase contrast MRI (PC-MRI) study. In general, conventional PC-MRI involves encoding the motion information of spins in the phase of the image. The velocity of the spin motion can be extracted by calculating the phase difference between two consecutive images acquired with two different bipolar encoding gradients. Two scans are required in order to reconstruct flow velocity data, resulting in an increase in image acquisition and reconstruction time by a factor of two compared to that of a standard anatomical image. As a means of reducing the PC-MRI scan time, the inventors propose a method of acquiring only a fraction of k-space data. The k-space is sampled using an under-sampled spiral or single projection, radial scheme. Subsequently, the two data sets in the PC-MRI are subtracted to extract the motion information from undersampled data without any aliasing artifacts. This method of partial-field of view acquisition and reconstruction of PC-MRI results in an increased temporal resolution, while maintaining high spatial resolution. The increase in image acquisition efficiency could be used to increase the spatial resolution while maintaining the temporal resolution.

Inventors: Reza Nezafat et al. (NHLBI).

Patent Status: U.S. Patent Application No. 11/227,406 filed 14 Sep 2005 (HHS Reference No. E-134-2005/0-US-01).

Licensing Status: Available for non-exclusive or exclusive licensing.

Licensing Contact: Chekesha Clingman, PhD; 301/435-5018; clingmac@mail.nih.gov.

Image Guided Systems and Methods for Organ Viability Assessment

Description of Technology: The number of patients for organ transplants continues to grow, without an increase in the number of organs available for transplant. This has increased interest in transplanting organs from non-traditional sources, such as donations after cardiac death. However, there are currently no methods to objectively measure the effects of resuscitation and ischemia damage on organ viability.

The present invention relates to systems and methods for evaluating the status and characterization of organs, determining their suitability for transplants, as well as restoring the viability of organs intended for transplants. Particularly, this method is based on using optical (infrared or near infrared) imaging to guide the resuscitation of the donor organs and predict the recovery of grafts challenged with several hours of preservation. This method allows for localization of ischemic areas and guiding targeted resuscitation of the organ.

For example, the inventors have shown that by combining a kidney reperfusion system with infrared imaging equipment, it is possible to differentiate between ischemic and non-ischemic tissue and restore the viability of the kidney. This method can potentially be used to evaluate the viability of any body part or organ intended for transplantation, such as extremities, heart, lungs, and liver. This approach can lead to the utilization of donation-after-cardiac-death organs and can substantially increase the donor pool of organs. Hence, this new method can identify organs that may be considered unsuitable for transplant, and help prevent transplantation of organs whose function may be considered impaired, as well as help guide resuscitation efforts.

Inventors: Alexander M. Gorbach (ORS), Allan D. Kirk (NIDDK), Eric Elster (NIDDK).

Patent Status: U.S. Provisional Application No. 60/778,785 filed 03 Mar 2006 (HHS Reference No. E-098-2005/0-US-01).

Licensing Status: Available for non-exclusive or exclusive licensing.

Licensing Contact: Chekesha Clingman, PhD; 301/435-5018; clingmac@mail.nih.gov.

Dated: June 5, 2006.
David R. Sadowski,
Acting Director, Division of Technology Development and Transfer, Office of Technology Transfer, National Institutes of Health.

[FR Doc. E6-9018 Filed 6-8-06; 8:45 am]

BILLING CODE 4140-01-P